Memorandum of July 19, 2024

Delegation of Functions and Authorities Under Section 9902(a)(3)(B) of the William M. (Mac) Thornberry National Defense Authorization Act for Fiscal Year 2021

Memorandum for the Director of the Office of Management and Budget

By the authority vested in me as President by the Constitution and the laws of the United States of America, including section 301 of title 3, United States Code, I hereby delegate to the Director of the Office of Management and Budget the functions and authorities vested in the President by section 9902(a)(3)(B) of the William M. (Mac) Thornberry National Defense Authorization Act for Fiscal Year 2021 (Public Law 116-283) with respect to the certification and reporting requirements regarding Federal investments in individual projects exceeding $3 billion.

You are authorized and directed to publish this memorandum in the Federal Register.

THE WHITE HOUSE,

Washington, July 19, 2024

[FR Doc. 2024-16401

Filed 7-23-24; 8:45 am]

Billing code 3110-01-P